DEPARTMENT OF ENERGY

Federal Energy Regulatory Commission

Combined Notice of Filings #1

Take notice that the Commission received the following electric corporate filings:

Docket Numbers: EC18-12-000.

Applicants: Public Service Company of New Hampshire, Granite Shore Power LLC.

Description: Joint Application of Public Service Company of NH, et al. for Approval of the Disposition of Jurisdictional Facilities Under Section 203 of the FPA, Request for Waivers, Request for Shortened Notice Period and Expedited Consideration.

Filed Date: 10/27/17.

Accession Number: 20171027-5272.

Comments Due: 5 p.m. ET 12/11/17.

Take notice that the Commission received the following exempt wholesale generator filings:

Docket Numbers: EG18-12-000.

Applicants: EGP Stillwater Solar PV II, LLC.

Description: Notice of Self-Certification of Exempt Wholesale Generator Status of EGP Stillwater Solar PV II, LLC.

Filed Date: 10/31/17.

Accession Number: 20171031-5257.

Comments Due: 5 p.m. ET 11/21/17.

Docket Numbers: EG18-13-000.

Applicants: EGP Stillwater Solar, LLC.

Description: Notice of Self-Certification of Exempt Wholesale Generator Status of EGP Stillwater Solar, LLC.

Filed Date: 10/31/17.

Accession Number: 20171031-5260.

Comments Due: 5 p.m. ET 11/21/17.

Take notice that the Commission received the following electric rate filings:

Docket Numbers: ER10-3297-010.

Applicants: Powerex Corp.

Description: Notice of Change in Status of Powerex Corp.

Filed Date: 10/30/17.

Accession Number: 20171030-5227.

Comments Due: 5 p.m. ET 11/20/17.

Docket Numbers: ER17-1712-002.

Applicants: Midcontinent Independent System Operator, Inc.

Description: Tariff Amendment: 2017-10-31_Amended Compensation for Manual Redispatch Filing to be effective 11/1/2017.

Filed Date: 10/31/17.

Accession Number: 20171031-5201.

Comments Due: 5 p.m. ET 11/21/17.

Docket Numbers: ER17-2218-001.

Applicants: PJM Interconnection, L.L.C.

Description: Tariff Amendment: Response to Deficiency Letter Issued September 28, 2017 in Docket No. ER17-2218 to be effective 10/3/2017.

Filed Date: 10/30/17.

Accession Number: 20171030-5208.

Comments Due: 5 p.m. ET 11/20/17.

Docket Numbers: ER17-2220-001.

Applicants: Midcontinent Independent System Operator, Inc.

Description: Tariff Amendment: 2017-10-30_Deficiency response re MISO-PJM JOA pseudo-tie revisions to be effective 10/1/2017.

Filed Date: 10/30/17.

Accession Number: 20171030-5193.

Comments Due: 5 p.m. ET 11/20/17.

Docket Numbers: ER17-2449-001.

Applicants: Public Service Company of New Hampshire.

Description: Tariff Amendment: Amendment ? Rate Schedule No. IA-ES-37 Interconnect Agreement PSNH and Pontook to be effective 12/16/2016.

Filed Date: 10/31/17.

Accession Number: 20171031-5258.

Comments Due: 5 p.m. ET 11/21/17.

Docket Numbers: ER18-127-001.

Applicants: Virginia Electric and Power Company, PJM Interconnection, L.L.C.

Description: Tariff Amendment: VEPCO submits Amendment to WDSA, Service Agreement No. 4817 to be effective 10/1/2017.

Filed Date: 10/30/17.

Accession Number: 20171030-5209.

Comments Due: 5 p.m. ET 11/20/17.

Docket Numbers: ER18-183-000.

Applicants: PJM Interconnection, L.L.C.

Description: § 205(d) Rate Filing: Revisions to OATT re: Proposed Pro Forma Dynamic Schedule Agreement to be effective 12/29/2017.

Filed Date: 10/30/17.

Accession Number: 20171030-5192.

Comments Due: 5 p.m. ET 11/20/17.

Docket Numbers: ER18-184-000.

Applicants: Southern California Edison Company.

Description: § 205(d) Rate Filing: 2018 RSBAA Update Filing to be effective 1/1/2018.

Filed Date: 10/31/17.

Accession Number: 20171031-5015.

Comments Due: 5 p.m. ET 11/21/17.

Docket Numbers: ER18-186-000.

Applicants: New England Power Pool Participants Committee.

Description: § 205(d) Rate Filing: Nov 2017 Membership Filing to be effective 10/1/2017.

Filed Date: 10/31/17.

Accession Number: 20171031-5172.

Comments Due: 5 p.m. ET 11/21/17.

Docket Numbers: ER18-187-000.

Applicants: PJM Interconnection, L.L.C.

Description: § 205(d) Rate Filing: Original Cost Responsibility Agreement No. 4829—NQ155 to be effective 10/19/2017.

Filed Date: 10/31/17.

Accession Number: 20171031-5176.

Comments Due: 5 p.m. ET 11/21/17.

Docket Numbers: ER18-188-000.

Applicants: Jordan Creek Wind Farm LLC.

Description: Petition for Waiver of Jordan Creek Wind Farm LLC.

Filed Date: 10/30/17.

Accession Number: 20171030-5248.

Comments Due: 5 p.m. ET 11/20/17.

Docket Numbers: ER18-189-000.

Applicants: California Power Exchange Corporation.

Description: § 205(d) Rate Filing: Rate Filing for Rate Period 32 to be effective 1/1/2018.

Filed Date: 10/31/17.

Accession Number: 20171031-5213.

Comments Due: 5 p.m. ET 11/21/17.

Docket Numbers: ER18-190-000.

Applicants: Duke Energy Carolinas, LLC.

Description: § 205(d) Rate Filing: NCMPA1 RS No 318 Amendment (2018) to be effective 1/1/2018.

Filed Date: 10/31/17.

Accession Number: 20171031-5223.

Comments Due: 5 p.m. ET 11/21/17.

Docket Numbers: ER18-191-000.

Applicants: DATC Path 15, LLC.

Description: § 205(d) Rate Filing: Revised Appendix I 2018 to be effective 1/1/2018.

Filed Date: 10/31/17.

Accession Number: 20171031-5270.

Comments Due: 5 p.m. ET 11/21/17.

Docket Numbers: ER18-192-000.

Applicants: Dynegy Oakland, LLC.

Description: § 205(d) Rate Filing: Annual RMR Section 205 Filing and RMR Schedule F Informational Filing to be effective 1/1/2018.

Filed Date: 10/31/17.

Accession Number: 20171031-5288.

Comments Due: 5 p.m. ET 11/21/17.

Docket Numbers: ER18-193-000.

Applicants: Midcontinent Independent System Operator, Inc., Dairyland Power Cooperative.

Description: § 205(d) Rate Filing: 2017-10-31_Dairyland Power Coop request for rate incentive treatment to be effective 1/1/2018.

Filed Date: 10/31/17.

Accession Number: 20171031-5290.

Comments Due: 5 p.m. ET 11/21/17.

Docket Numbers: ER18-194-000.

Applicants: American Electric Power Service Corporation, Southwest Power Pool, Inc.

Description: § 205(d) Rate Filing: AEP Transcos Formula Rate Revisions to be effective 1/1/2018.

Filed Date: 10/31/17.

Accession Number: 20171031-5305.

Comments Due: 5 p.m. ET 11/21/17.

Take notice that the Commission received the following electric securities filings:

Docket Numbers: ES17-10-000.

Applicants: NSTAR Electric Company.

Description: Supplement to January 13, 2017 Application of NSTAR Electric Company under Section 204 of the FPA for Authority to Assume Short-Term Debt Obligations of its affiliate, Western Mass Electric Company.

Filed Date: 9/19/17.

Accession Number: 20170919-5171.

Comments Due: 5 p.m. ET 11/13/17.

Take notice that the Commission received the following PURPA 210(m)(3) filings:

Docket Numbers: QM18-1-000.

Applicants: Missouri River Energy Services.

Description: Application to Terminate Mandatory PURPA Purchase Obligation of Missouri River Energy Services, on behalf of itself and member Marshall, Minnesota.

Filed Date: 10/31/17.

Accession Number: 20171031-5298.

Comments Due: 5 p.m. ET 11/28/17.

Docket Numbers: QM18-2-000.

Applicants: Missouri River Energy Services.

Description: Application to Terminate Mandatory PURPA Purchase Obligation of Missouri River Energy Services, on behalf of itself and thirty-three members.

Filed Date: 10/31/17.

Accession Number: 20171031-5300.

Comments Due: 5 p.m. ET 11/28/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2017.
Nathaniel J. Davis, Sr.,
Deputy Secretary.

[FR Doc. 2017-24145 Filed 11-6-17; 8:45 am]

BILLING CODE 6717-01-P